DEPARTMENT OF COMMERCE

National Oceanic and Atmospheric Administration

RIN 0648-XA626

Marine Mammals; File Nos. 16163, 16160, and 15569

AGENCY: National Marine Fisheries Service (NMFS), National Oceanic and Atmospheric Administration (NOAA), Commerce.

ACTION: Notice; issuance of permits.

SUMMARY: Notice is hereby given that permits have been issued to the Northwest Fisheries Science Center (NWFSC, Dr. M. Bradley Hanson, Principal Investigator) [File No. 16163], 2725 Montlake Blvd. East, Seattle, WA 98112-2097; The Whale Museum (Jenny Atkinson, Responsible Party) [File No. 16160], P.O. Box 945, Friday Harbor, WA 98250; and The Center for Whale Research (CWR; Kenneth C. Balcomb III, Responsible Party) [File No. 15569], P.O. Box 1577, Friday Harbor, WA 98250 to conduct research on marine mammals.

ADDRESSES: The permit and related documents are available for review upon written request or by appointment in the following offices: See SUPPLEMENTARY INFORMATION.

FOR FURTHER INFORMATION CONTACT: The following Analysts at (301) 427-8401: Joselyd Garcia-Reyes [for File No. 16160]; Laura Morse [for File No. 16163]; and Jennifer Skidmore [for File No. 15569].

SUPPLEMENTARY INFORMATION: On November 3, 2011, notice was published in the Federal Register (76 FR 213) that a request for permits to conduct research on marine mammals had been submitted by the above-named applicants. The requested permits have been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

File No. 16163: Authorizes take of forty-two species of marine mammals in all U.S. and international waters in the Pacific Ocean, including waters of Alaska, Washington, Oregon, California, and Hawaii. Harassment of all species of cetaceans will occur through vessel approach for sighting surveys, photographic identification, behavioral research, opportunistic sampling (breath, sloughed skin, fecal material, and prey remains), acoustic imaging with echosounders, and aerial surveys. Twenty seven cetacean species and unidentified mesoplodon species will be biopsied, dart, and/or suction-cup tagged. Ultrasound sampling will be directed at killer whales including the Southern Resident stock. Active acoustic playback studies will be directed at Southern Resident killer whales. Import and export of marine mammal prey specimens, skin and blubber, sloughed skin, fecal and breath samples obtained is authorized. The permit is valid until June 6, 2017.

File No. 16160: Authorizes take of eight species of cetaceans in the inland waters of Washington State. Harassment of all species will occur through close vessel approach for photo-identification, behavioral observation, and monitoring. The permit is valid until June 6, 2017.

File No. 15569: Authorizes take of twenty-two species of marine mammals in the coastal eastern North Pacific from the southern boundary of California to Alaskan waters east of Kodiak Island, including all territorial waters up to 200 nautical miles offshore. Harassment of all species of cetaceans will occur through vessel approach for photographic identification, behavioral research, opportunistic sampling (fecal material and prey remains), remote measuring (aerial and laser techniques), and passive acoustic recording. The permit is valid until June 6, 2017.

An environmental assessment (EA) was prepared analyzing the effects of the permitted activities on the human environment in compliance with the National Environmental Policy Act of 1969 (42 U.S.C. 4321 et seq.). Based on the analyses in the EA, NMFS determined that issuance of the permits will not significantly impact the quality of the human environment and that preparation of an environmental impact statement was not required. That determination is documented in a Finding of No Significant Impact (FONSI), signed on June 4, 2012.

As required by the ESA, issuance of these permits was based on a finding that such permits: (1) Were applied for in good faith; (2) will not operate to the disadvantage of such endangered species; and (3) are consistent with the purposes and policies set forth in section 2 of the ESA.

Documents may be reviewed in the following locations:

Permits and Conservation Division, Office of Protected Resources, NMFS, 1315 East-West Highway, Room 13705, Silver Spring, MD 20910; phone (301) 427-8401; fax (301) 427-2521;

Northwest Region, NMFS, 7600 Sand Point Way NE., BIN C15700, Bldg. 1, Seattle, WA 98115-0700; phone (206) 526-6150; fax (206) 526-6426;

Alaska Region, NMFS, P.O. Box 21668, Juneau, AK 99802-1668; phone (907) 586-7221; fax (907) 586-7249;

Southwest Region, NMFS, 501 West Ocean Blvd., Suite 4200, Long Beach, CA 90802-4213; phone (562) 980-4001; fax (562) 980-4018; and

Pacific Islands Region, NMFS, 1601 Kapiolani Blvd., Rm 1110, Honolulu, HI 96814-4700; phone (808) 973-2935; fax (808) 973-2941.

Dated: June 8, 2012.
P. Michael Payne,
Chief, Permits and Conservation Division, Office of Protected Resources, National Marine Fisheries Service.

[FR Doc. 2012-14587 Filed 6-13-12; 8:45 am]

BILLING CODE 3510-22-P